DEPARTMENT OF HOUSING AND URBAN DEVELOPMENT

[Docket No. FR-4572-D-28]

Revocation of Delegation of Authority to Execute Legal Instruments Pertaining to Section 312 Rehabilitation Loans

AGENCY: Office of the General Counsel, HUD.

ACTION: Notice of Revocation of Delegation of Authority.

SUMMARY: This notice advises the public that the Secretary, on May 22, 2002, revoked the delegation of authority of the President of the Government National Mortgage Association (Ginnie Mae), to execute legal instruments pertaining to Section 312 loans, and to redelegate the authority to execute such legal instruments.

FOR FURTHER INFORMATION CONTACT: Mary Kolesar, Office of Affordable Housing Programs, Department of Housing and Urban Development, 451 7th Street, SW., Washington, DC 20410, telephone number (202) 708-2470 (this is not a toll free number). This number may be accessed via TTY by calling the Federal Information Relay Service a 1-800-877-8339.

SUPPLEMENTARY INFORMATION: On May 28, 1997 (62 FR 28889), the Secretary delegated to the President, Ginnie Mae the authority to execute in the name of the Secretary certain written instruments relating to Section 312 Rehabilitation Loans, including but not limited to: Deeds of release, quit claim deeds and deeds of reconveyance; substitutions of trustees; compromises; write-offs; close outs; releases related to insurance policies; assignments or satisfactions of notes, mortgages, deeds of trust and other security instruments; and any other written instrument or document related to, or necessary for, servicing or collection of a Section 312 loan, including any such instrument related to Section 312 loan servicing-related property management and disposition functions that were not delegated to the Assistant Secretary for Housing. The May 28, 1997 delegation of authority also authorized the President of Ginnie Mae to redelegate this authority.

This notice advises the public that on May 22, 2002, the Secretary revoked the delegation of authority to the President, Ginnie Mae that was published on May 28, 1997 (62 FR 28889) and that revocation of this delegation is published in today's Federal Register.

Dated: November 8, 2002.
Aaron Santa Anna,
Assistant General Counsel for Regulations.

[FR Doc. 02-29106 Filed 11-15-02; 8:45 am]

BILLING CODE 4210-67-P